DEPARTMENT OF TRANSPORTATION

Federal Aviation Administration

Notice of Intent to Rule on Application 02-01-C-00-MKL To Impose and Use the Revenue From a Passenger Facility Charge (PFC) at McKeller-Sipes Airport, Jackson, TN

AGENCY: Federal Aviation Administration (FAA), DOT.

ACTION: Notice of intent to rule on application.

SUMMARY: The FAA proposes to rule and invites public comment on the application to impose and use the revenue from a PFC at McKeller-Sipes Airport under the provisions of the 49 U.S.C. 40117 and part 158 of the Federal Aviation Regulations (14 CFR part 158).

DATES: Comments must be received on or before May 23, 2002.

ADDRESSES: Comments on this application may be mailed or delivered in triplicate to the FAA at the following address: Memphis Airports District Office, 3385 Airways Blvd., Suite 302, Memphis, Tennessee 38116-3841.

In addition, one copy of any comments submitted to the FAA must be mailed or delivered to Rodney Hendrix, Executive Director of the Jackson-Madison County Airport Authority at the following address: 308 Grady Montgomery Drive, Jackson, Tennessee 38301.

Air carriers and foreign air carriers may submit copies of written comments previously provided to the Jackson-Madison County Airport Authority under section 158.23 of part 158.

FOR FURTHER INFORMATION CONTACT: Peggy S. Kelley, Program Manager, Memphis Airports District Office, 3385 Airways Blvd., Suite 302, Memphis, Tennessee 38116-3841. The application may be reviewed in person at this same location.

SUPPLEMENTARY INFORMATION: The FAA proposes to rule and invites public comment on the application to impose and use the revenue from a PFC at McKeller-Sipes Airport under the provisions of the 49 U.S.C. 40117 and part 158 of the Federal Aviation Regulations (14 CFR part 158).

On April 11, 2002, the FAA determined that the application to impose and use the revenue from a PFC submitted by Jackson-Madison County Airport Authority was substantially complete within the requirements of section 158.25 of part 158. The FAA will approve or disapprove the application, in whole or in part, no later than July 26, 2002.

The following is a brief overview of the application.

Proposed charge effective date: October 1, 2002.

Proposed charge expiration date: May 31, 2010.

Level of the proposed PFC: $4.50.

Total estimated PFC revenue: $332,248.

Brief description of proposed project(s): Reimbursement of Sponsor's share of completed planning, airfield, equipment and terminal projects including: Master Plan Update, Aircraft Rescue and Firefighting vehicle, taxiway construction and rehabilitation, apron improvements, taxiway lighting, fencing, drainage improvements, terminal renovation and addition, PAPI installation, airfield signage and lighting, relocation of Rotating Beacon, runway pavement rehabilitation and acquisition of land and construction of runway safety area.

Class or classes of air carriers which the public agency has requested not be required to collect PFCs: Non-scheduled/on-demand air carriers filing Form 1800-31.

Any person may inspect the application in person at the FAA office listed above under FOR FURTHER INFORMATION CONTACT and at the FAA regional Airports office located at: 1701 Columbia Avenue, College Park, Georgia 30337.

In addition, any person may, upon request, inspect the application, notice and other documents germane to the application in person at the Jackson-Madison County Airport Authority, 308 Grady Montgomery Drive, Jackson, Tennessee 38301.

Issued in Memphis, Tennessee on April 11, 2002.
Charles L. Harris,
Assistant Manager, Memphis Airports District Office, Southern Region.

[FR Doc. 02-9852 Filed 4-22-02; 8:45 am]

BILLING CODE 4910-13-M